DEPARTMENT OF HEALTH AND HUMAN SERVICES

Administration for Children and Families

[ACYF/HS-2003-01]

Request for Public Comments on the Proposed Merger of Two Head Start Grantees in Rhode Island

AGENCY: Administration on Children, Youth, and Families, ACF, DHHS.

ACTION: Request for public comments.

SUMMARY: This notice is to solicit public comments and statements of interest from interested parties on the merger of two Rhode Island Head Start Programs.

EFFECTIVE DATE: January 30, 2004.

FOR FURTHER INFORMATION CONTACT: Michelle Hastings; Pal-Tech, Inc.; 1000 Wilson Blvd., Suite 1000; Arlington, VA 22209; 1-800-458-7699; 703-243-0496 (fax)

SUPPLEMENTARY INFORMATION: Self Help, Inc., and New Visions for Newport County, Inc. are proposing to merge their federally funded Head Start programs. This proposed merger is expected to bring about a more cost effective and efficient service delivery to children and their families. The Head Start Bureau of the Administration for Children and Families (ACF), within the United States Department of Health And Human Services has this proposal under consideration and is currently evaluating its effect on Head Start Services for children and families in the community. Under the proposed merger, Self Help, Inc., would be absorbed by New Visions for Newport County, Inc., and New Visions for Newport County, Inc. would provide Head Start services for the community it now serves as well as the community new served by Self Help, Ins.

Mergers of local Head Start grantees usually require the ACF to offer an open competition in the specified service area whose grantee is being absorbed. While this request for a merger, without a competitive review process, is under consideration, public comments are being solicited. Additionally, this notice also serves to encourage and welcome statements of interest from any local public agency, local public school system, local non-profit agency or local for-profit organization, or local faith-based organization that would want to compete for funding to provide Head Start services in the area now served by Self Help, Inc.

Self Help, Inc., also receives funding to conduct an Early Head Start program. As part of a proposed merger, Self Help, Inc., is proposing that the Early Head Start grant it conducts be transferred to New Visions for Newport County, Inc. after the merger. When an Early Head Start grantee merges with another organization, the grant must usually be recompeted, but consideration is being given to transferring the Early Head Start grant to New Visions for Newport County, Inc. While this request for a transfer, without a recompetition, is under consideration, public comments are being solicited. Additionally, this notice also serves to encourage and welcome statements of interest from any public agency, public school system, non-profit agency, for-profit organization, or faith-based organization that would want to compete for funding to provide Early Head Start services in the area now served by Self Help, Inc.

Please mail or fax statements of support or objection to this proposed merger and grant transfer as well as any request for consideration by January 30, 2004 to: Michelle Hastings; Pal-Tech, Inc.; 1000 Wilson Blvd., Suite 1000; Arlington, VA 22209; 1-800-458-7699; 703-243-0496 (fax).

Dated: December 22, 2003.
Joan E. Ohl,
Commissioner, Administration on Children, Youth and Families.

[FR Doc. 03-32151 Filed 12-30-03; 8:45 am]

BILLING CODE 4184-01-M